DEPARTMENT OF DEFENSE

Office of the Secretary

[Docket ID: DOD-2011-OS-0011]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on March 14, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, Room 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on January 28, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 3, 2011.
Morgan F. Park,
Alternate OSD Federal Register Liaison Officer, Department of Defense.

DWHS P04

System name:

Reduction-In-Force Case Files (February 22, 1993, 58 FR 10227).

Changes:

* * * * *

System location:

Delete entry and replace with “Personnel Services, Human Resources Directorate, Washington Headquarters Services, Department of Defense, 1155 Defense Pentagon, Washington, DC 20301-1155.”

Categories of individuals covered by the system:

Delete entry and replace with “Civilian employees serviced by the Washington Headquarters Service, Human Resource Office who have been notified of a reduction-in-force action.”

Categories of records in the system:

Delete entry and replace with “Name, home/mailing address, service computation date, veteran's preference for Reduction in Force (RIF), performance appraisal ratings, tenure, and subgroup. Documents in the files may include letters from management officials, letters prepared by personnel to the individual regarding type of action required, correspondence from individual concerned and other miscellaneous correspondence concerning the specific action.”

Authority for maintenance of the system:

Delete entry and replace with “5 U.S.C. 7103, Definitions, application; 10 U.S.C. 1597, Civilian positions: guidelines for reductions; 5 CFR 351, Chapter 1-Office of Personnel Management, Reductions in Force; and DoD 1400.25-M, chapter 1701, Department of Defense Civilian Personnel Manual.”

Purpose(s):

Delete entry and replace with “To document the communication of the reduction-in-force process and communicate with affected employees.”

Routine uses of records maintained in the system, including categories of users and the purposes of such uses:

Delete entry and replace with “In addition to those disclosures generally permitted under 5 U.S.C. 552a(b) of the Privacy Act of 1974, these records may specifically be disclosed outside the DoD as a routine use pursuant to 5 U.S.C. 552a(b)(3) as follows:

To the Office of Personnel Management in instances where an affected employee appeals the decision.

The DoD `Blanket Routine Uses' set forth at the beginning of the Office of the Secretary of Defense (OSD) compilation of systems of records notices apply to this system.”

Policies and practices for storing, retrieving, accessing, retaining, and disposing of records in the system:

Storage:

Delete entry and replace with “Paper file folders.”

* * * * *

Safeguards:

Delete entry and replace with “Records are maintained in locked file cabinets in a secure area in a building with 24-hour security. Access to records is only by authorized Reduction in Force (RIF) team personnel.”

* * * * *

System manager(s) and address:

Delete entry and replace with “Chief of Staffing Division, Personnel Services, Human Resources Directorate, Washington Headquarters Services, 1155 Defense Pentagon, Washington, DC 20301-1155.”

Notification procedure:

Delete entry and replace with “Individuals seeking to determine whether information about themselves is contained in this system should address written inquiries to the Chief of Staffing Division, Personnel Services, Human Resources Directorate, Washington Headquarters Service, 1155 Defense Pentagon, Washington, DC 20301-1155.

Inquiries must include the name of the individual, approximate date of reduction in force and be signed.”

Record access procedures:

Delete entry and replace with “Individuals seeking access to information about themselves contained in this system should address written inquiries to the OSD/Joint Staff, Freedom of Information Act Requester Service Center, Office of Freedom of Information, 1155 Defense Pentagon, Washington, DC 20301-1155.

Requests must include the name and number of this System of Records Notice, the name of the individual, approximate date of reduction in force and be signed.”

* * * * *

Record source categories:

Delete entry and replace with “The individual, the Official Personnel File (OPF), and correspondence from appeal examiner in appealed cases.”

* * * * *

DWHS P04

System name:

Reduction-In-Force Case Files.

System location:

Personnel Services, Human Resources Directorate, Washington Headquarters Services, Department of Defense, 1155 Defense Pentagon, Washington, DC 20301-1155.

Categories of individuals covered by the system:

Civilian employees serviced by the Washington Headquarters Service, Human Resource Office who have been notified of a reduction-in-force action.

Categories of records in the system:

Name, home/mailing address, service computation date, veteran's preference for Reduction in Force (RIF), performance appraisal ratings, tenure, and subgroup. Documents in the files may include letters from management officials, letters prepared by personnel to the individual regarding type of action required, correspondence from individual concerned and other miscellaneous correspondence concerning the specific action.

Authority for maintenance of the system:

5 U.S.C. 7103, Definitions, application; 10 U.S.C. 1597, Civilian positions: Guidelines for reductions; 5 CFR 351, Chapter 1-Office of Personnel Management, Reductions in Force; and DoD 1400.25-M, chapter 1701, Department of Defense Civilian Personnel Manual.

Purpose(s):

To document the communication of the reduction-in-force process and communicate with affected employees.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Office of Personnel Management in instances where an affected employee appeals the decision.

The DoD `Blanket Routine Uses' set forth at the beginning of the Office of the Secretary of Defense (OSD) compilation of systems of records notices apply to this system.

Policies and practices for storing, retrieving, accessing, retaining, and disposing of records in the system:

Storage:

Paper file folders.

Retrievability:

Filed alphabetically by last name.

Safeguards:

Records are maintained in locked file cabinets in a secure area in a building with 24-hour security. Access to records is only by authorized Reduction in Force (RIF) team personnel.

Retention and disposal:

Records are destroyed two years after case is closed.

System manager(s) and address:

Chief of Staffing Division, Personnel Services, Human Resources Directorate, Washington Headquarters Services, 1155 Defense Pentagon, Washington, DC 20301-1155.

Notification procedure:

Individuals seeking to determine whether information about themselves is contained in this system should address written inquiries to the Chief of Staffing Division, Personnel Services, Human Resources Directorate, Washington Headquarters Service, 1155 Defense Pentagon, Washington, DC 20301-1155.

Inquiries must include the name of the individual, approximate date of reduction in force and be signed.

Record access procedures:

Individuals seeking access to information about themselves contained in this system should address written inquiries to the OSD/Joint Staff, Freedom of Information Act Requester Service Center, Office of Freedom of Information, 1155 Defense Pentagon, Washington, DC 20301-1155.

Requests must include the name and number of this System of Records Notice, the name of the individual, approximate date of reduction in force and be signed.

Contesting record procedures:

The OSD rules for accessing records, for contesting contents and appealing initial agency determinations are published in OSD Administrative Instruction 81; 32 CFR part 311; or may be obtained from the system manager.

Record source categories:

The individual, the Official Personnel File (OPF), and correspondence from appeal examiner in appealed cases.

Exemptions claimed for the system:

None.

[FR Doc. 2011-3092 Filed 2-10-11; 8:45 am]

BILLING CODE 5001-06-P